DEPARTMENT OF DEFENSE

Department of the Army

Proposed Collection; Comment Request

AGENCY: Department of the Army, DOD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 19, 2003.

ADDRESSES: Written comments and recommendations on the proposed information collection should be sent to the Department of the Army, Institute for Water Resources, Corps of Engineers Waterborne Commerce Statistics Center, PO Box 61280 (ATTN: Doug Blakemore), New Orleans, LA 70161-1280.

Consideration will be given to all comments received within 60 days of the date of publication of this notice.

FOR FURTHER INFORMATION CONTACT: To request more information on this proposed information collection or to obtain a copy of the proposal and associated collection instruments, please write to the above address, or call Department of the Army Reports Clearance Officer at (703) 695-5509.

Title, Associated Form, and OMB Number: Vessel Operation Report, ENG Forms 3925, 3925B, 3925C, 3925P, OMB Number 0710-0006.

Needs and Uses: The Corps of Engineers uses ENG Forms 3925, 3925B, 3925C and 3925P as the basic instruments to collect waterborne commerce statistics. These data constitute the sole source for domestic vessel movements of freight and passengers on U.S. navigable waterways and harbors. These data are collected from vessel operating companies. These data are essential to plans for maintaining U.S. navigable waterways. These data are also critical to the enforcement of the “Harbor Maintenance Tax” authorized under section 1402 of Public Law 99-662.

Affected Public: Business or other for profit.

Annual Burden Hours: 43,213.

Number of Respondents: 1,217.

Responses Per Respondent: 1.

Average Burden Per Response: 18 minutes.

Frequency: On occasion.

SUPPLEMENTARY INFORMATION: The information collected is the basic data from which the Corps of Engineers compiles and published waterborne commerce statistics. The data is used not only to report to Congress, but also to perform cost benefit studies for new projects, rehabilitation projects, and O&M of existing projects. It is also used by other Federal agencies involved in transportation and security. This data collection program is the sole source for domestic navigation statistics.

Luz D. Ortiz,
Army Federal Register Liaison Officer.

[FR Doc. 03-18441 Filed 7-18-03; 8:45 am]

BILLING CODE 3710-08-M